DEPARTMENT OF THE INTERIOR

Office of the Secretary

Invasive Species Advisory Committee

AGENCY: Office of the Secretary, Interior.

ACTION: Notice of public meetings of the Invasive Species Advisory Committee.

SUMMARY: Pursuant to the provisions of the Federal Advisory Committee Act, notice is hereby given of meetings of the Invasive Species Advisory Committee (ISAC). Comprised of 30 nonfederal invasive species experts and stakeholders from across the nation, the purpose of the Advisory Committee is to provide advice to the National Invasive Species Council, as authorized by Executive Order 13112, on a broad array of issues related to preventing the introduction of invasive species and providing for their control and minimizing the economic, ecological, and human health impacts that invasive species cause. The Council is co-chaired by the Secretary of the Interior, the Secretary of Agriculture, and the Secretary of Commerce. The duty of the Council is to provide national leadership regarding invasive species issues.

Purpose of Meeting: The meeting will be held on December 7-9, 2010 in Washington, DC, and will focus primarily on Early Detection and Rapid Response as it relates to invasive species. The full ISAC will also consider a white paper entitled, Invasive Species and Climate Change, as drafted by the ISAC Task Team on Climate Change.

DATES: Meeting of the Invasive Species Advisory Committee: Tuesday, December 7, 2010 through Thursday, December 9, 2010. The meeting will be held 8 a.m. to 5 p.m. on Tuesday, December 7, 2010 and Wednesday, December 8, 2010. On Thursday, December 9, 2010, the meeting will begin at 8 a.m., and adjourn at 12 noon.

ADDRESSES: U.S. Department of Agriculture, Economic Research Service Conference Center, 1800 M Street, NW. (South Tower), Washington, DC 20036. The general session will be held in the Waugh Auditorium.

Note: All meeting participants and interested members of the public must be cleared through building security prior to being escorted to the meeting.

FOR FURTHER INFORMATION CONTACT: Kelsey Brantley, National Invasive Species Council Program Analyst and ISAC Coordinator, (202) 513-7243; Fax: (202) 371-1751,

Dated: November 8, 2010.
Lori Williams,
Executive Director, National Invasive Species Council.

[FR Doc. 2010-28653 Filed 11-12-10; 8:45 am]

BILLING CODE 4310-RK-P